DEPARTMENT OF EDUCATION

National Assessment Governing Board; Meeting

AGENCY: National Assessment Governing Board; Education.

ACTION: Notice of open meeting and partially closed meetings.

SUMMARY: This notice sets forth the schedule and proposed agenda of a forthcoming meeting of the National Assessment Governing Board. This notice also describes the functions of the Board. Notice of this meeting is required under Section 10(a)(2) of the Federal Advisory Committee Act. The document is intended to notify the general public of their opportunity to attend. Individuals who will need accommodations for a disability in order to attend the meeting (i.e. interpreting services, assistive listening devices, materials in alternative format) should notify Munira Mwalimu at 202-357-6938 or at Munira.Mwalimu@ed.gov no later than November 8, 2002. We will attempt to meet requests after this date, but cannot guarantee availability of the requested accommodation. The meeting site is accessible to individuals with disabilities.

DATES: November 14-November 16, 2002.

Times: November 14: Assessment Development Committee: Open Session—1 p.m. to 3 p.m.; Ad Hoc Committee on Background Questions: Open Session—3 p.m. to 4:30 p.m.; Ad Hoc Committee on NAEP Sampling Studies: Open Session—3 p.m. to 4:30 p.m.; Executive Committee Meeting: Open Session—5 p.m.-6:30 p.m.; Closed Session 6:30 p.m. to 7 p.m.

November 15: Full Board Meeting: Open Session 8:15 a.m.-10:15 a.m.; Committee Meetings: Assessment Development Committee 10:30 a.m.-12:30 p.m.; Committee on Standards, Design and Methodology, 10:30 a.m.-12:30 p.m.; Reporting and Dissemination Committee, 10:30 a.m.-12:30 p.m.; Full Board—Open Meeting 12:30 p.m.-2:30 p.m.; Closed Meeting 2:30 p.m.-4 p.m.

November 16: Full Board Meeting: Open Session 9 a.m.-12 p.m.

Location: Holiday Inn Select Old Town, 480 King Street, Alexandria, VA 22314.

FOR FURTHER INFORMATION CONTACT: Munira Mwalimu, Operations Officer, National Assessment Governing Board, 800 North Capitol Street, NW, Suite 825, Washington, DC, 20002-4233, Telephone: (202) 357-6938.

SUPPLEMENTARY INFORMATION: The National Assessment Governing Board is established under section 412 of the National Education Statistics Act of 1994 (Title IV of the Improving America's Schools Act of 1994, as amended by the No Child Left Behind Act of 2001 (Public Law 107-110).

The Board is established to formulate policy guidelines for the National Assessment of Educational Progress (NAEP). The Board's responsibilities include selecting subject areas to be assessed, developing assessment objectives, developing appropriate student achievement levels for each grade and subject tested, developing guidelines for reporting and disseminating results, and developing standards and procedures for interstate and national comparisons.

The Executive Committee will meet in partially closed session on November 14 from 6:30-7 p.m. to receive independent cost estimates on contract initiatives for NAEP. The meeting must be conducted in closed session because public disclosure of this information would likely have an adverse financial effect on the NAEP program. The discussion of this information would be likely to significantly impede implementation of a proposed agency action if conducted in open session. Such matters are protected by exemption 9(B) of 552b(c) of Title 5 U.S.C.

On November 15, 2002 the full board will convene in open session from 8:15 a.m.-10:15 a.m. The Board will approve the agenda and introduce new Board Members. Secretary Paige will administer the oath of office for new Board members and address the Board. The Board will then receive the Executive Director's report and a NAEP Update from the Deputy Commissioner of NCES, Gary Phillips. From 10:30 a.m. to 12:30 p.m., the Board's standing committees—the Assessment Development Committee, the Committee on Standards, Design, and Methodology, and the Reporting and Dissemination Committee will meet in open session.

The full Board will reconvene in open session on November 15, 2002 from 12:30 p.m.-1:30 p.m. to discuss the work of a proposed Commission to study 12th grade NAEP. From 1:30 p.m. to 2 p.m. the Board will receive an update on NAEP/NAGB reauthorization and on the new reading framework project. From 2:30 p.m. to 4 p.m. the full board will meet in closed session to review and discuss test items from the upcoming 2003 Main Reading Assessment. Disclosure of the specific test items for the NAEP Reading Assessment would significantly impede implementation of the NAEP program, and is therefore protected by exemption 9(B) of Section 552b(c) of Title 5 U.S.C.

On November 16, the full Board will meet in open session from 9 a.m. to 12 p.m. The Board will receive a briefing from the National Urban League on efforts to reduce achievement gaps. This presentation will be followed by Board actions on policies and Committee reports. The November 16, 2002 session of the Board meeting will adjourn at 12 noon.

Summaries of the activities of the closed session and related matters, which are informative to the public and consistent with the policy of section 5 U.S.C. 552b (c), will be available to the public within 14 days of the meeting. Records are kept of all Board proceedings and are available for public inspection at the U.S. Department of Education, National Assessment Governing Board, Suite #825, 800 North Capitol Street, NW, Washington, DC, from 9 a.m. to 5 p.m. Eastern Standard Time.

Dated: October 29, 2002.
Roy Truby,
Executive Director, National Assessment Governing Board.

[FR Doc. 02-27783 Filed 10-31-02; 8:45 am]

BILLING CODE 4000-1-M